DEPARTMENT OF LABOR

Employment and Training Administration

[Docket No. ETA-2020-0001]

Agency Information Collection Activities; Comment Request; Correction

AGENCY: Employment and Training Administration, Labor.

ACTION: Notice; correction; extension of comment period.

SUMMARY: The Department of Labor's (DOL) Employment and Training Administration (ETA) published a document in the Federal Register on July 22, 2020, concerning Agency collection activities and request for comments on a proposed request for authority to conduct the information collection request (ICR), titled “Job Corps Hall of Fame and Successful Graduate Nomination.” The document contained an incorrect docket number in the supplemental information section. Therefore, DOL is issuing this correction, as well as extending the final date for submissions to be considered.

DATES: Written comments must be submitted on or before November 17, 2020 to be considered, via the methods published in the original Federal Register Notice, published July 22, 2020 (85 FR 44325).

FOR FURTHER INFORMATION CONTACT: Lawrence Lyford, National Office of Job Corps, by telephone at 202-693-3121 (this is not a toll free number) or by email at Lyford.Lawrence@dol.gov.

SUPPLEMENTARY INFORMATION:

Correction

In the Federal Register of July 22, 2020, on page 44325 (85 FR 44325) in the second and third columns, correct the Addresses caption to read:

You may send comments, identified by docket number ETA-2020-0001, by one of the following methods:

• Federal eRulemaking Portal: http://www.regulations.gov. Follow the instructions for sending comments.

• Mail: Send via U.S. Postal Service to U.S. Department of Labor, Employment and Training Administration, Office of Job Corps, 200 Constitution Avenue NW, Room N-4459, Washington, DC 20210.

• Hand Delivery/Courier: Send to U.S. Department of Labor, Employment and Training Administration, Office of Job Corps, 200 Constitution Avenue NW, Room N-4459, Washington, DC 20210.

Instructions: All submissions received must include the agency name and docket number. All comments received will be posted without change to www.regulations.gov, including any personal information provided. For additional information, please see the SUPPLEMENTARY INFORMATION section of this document.

Docket: For access to the docket for background documents, including the supporting statement and related materials, or for comments received, go to docket number ETA-2020-0001.

John Pallasch,
Assistant Secretary for Employment and Training.

[FR Doc. 2020-20658 Filed 9-17-20; 8:45 am]

BILLING CODE 4510-FP-P